DEPARTMENT OF ENERGY

Federal Energy Regulatory Commission

[Project No. 1892-030; Project No. 1855-050; Project No. 1904-078]

Great River Hydro, LLC; Notice of Applications Tendered for Filing With the Commission and Establishing Procedural Schedule for Licensing and Deadline for Submission of Final Amendments

Take notice that the following hydroelectric applications have been filed with the Commission and are available for public inspection.

a. Type of Applications: New Major Licenses.

b. Project Nos.: 1892-030, 1855-050, and 1904-078.

c. Date Filed: May 1, 2017.

d. Applicant: Great River Hydro, LLC (Great River Hydro).

e. Names of Projects: Wilder, Bellows Falls, and Vernon Hydroelectric Projects.

f. Location: The existing projects are located on the Connecticut River in Orange, Windsor, and Windham Counties, Vermont, and Grafton, Cheshire, and Sullivan Counties, New Hampshire. There are no federal lands within the project boundaries.

g. Filed Pursuant to: Federal Power Act, 16 U.S.C. 791(a)-825(r).

h. Applicant Contact: John Ragonese, FERC License Manager, Great River Hydro, LLC, One Harbour Place, Suite 330, Portsmouth, NH 03801; Telephone: (603) 559-5513 or jragonese@greatriverhydro.com.

i. FERC Contact: Brandon Cherry, (202) 502-8328 or brandon.cherry@ferc.gov.

j. These applications are not ready for environmental analysis at this time.

k. Project Descriptions:

Wilder Project

The existing Wilder Project consists of: (1) A 1,546-foot-long, 59-foot-high, concrete dam that includes: (a) A 400-foot-long non-overflow, earthen embankment (north embankment); (b) a 232-foot-long non-overflow, concrete bulkhead; (c) a 208-foot-long concrete forebay; (d) a 526-foot-long concrete, gravity spillway that includes: (i) six 30-foot-high, 36-foot-long tainter gates; (ii) four 17-foot-high, 50-foot-wide stanchion flashboards; (iii) a 15-foot-high, 20-foot-long skimmer gate (north gate); and (iv) a 10-foot-high, 10-foot-long skimmer gate (south gate); and (e) a 180-foot-long non-overflow, earthen embankment (south embankment); (2) a 45-mile-long, 3,100-acre impoundment with a useable storage volume of 13,350 acre-feet between elevations 380 and 385 feet National Geodetic Vertical Datum of 1929 (NGVD 29); (3) four approximately 25-foot-high, 20-foot-wide trashracks with 5-inch clear bar spacing and one approximately 28-foot-high, 20-foot-wide trashrack with 1.625-inch clear bar spacing; (4) a 181-foot-long, 50-foot-wide, 50-foot-high steel frame, brick powerhouse containing two 16.2-megawatt (MW) adjustable-blade Kaplan turbine-generator units and one 3.2-MW vertical Francis turbine-generator unit for a total project capacity of 35.6 MW; (5) three concrete draft tubes ranging from 9.5 to 20.5 feet in diameter; (6) 13.8-kilovolt (kV) generator leads that connect the turbine-generator units to two substation transformers; (7) an approximately 580-foot-long, 6-foot-wide fishway; and (8) appurtenant facilities.

Bellows Falls Project

The existing Bellows Falls Project consists of: (1) A 643-foot-long, 30-foot-high concrete dam that includes: (a) two 18-foot-high, 115-foot-wide steel roller gates; (b) two 13-foot-high, 121-foot-wide stanchion flashboards; and (c) a 13-foot-high, 100-foot-wide stanchion flashboard; (2) a 26-mile-long, 2,804-acre impoundment with a useable storage volume of 7,467 acre-feet between elevations 288.63 and 291.63 feet NGVD 29; (3) a 1,700-foot-long, 36- to 100-foot-wide, 29-foot-deep stone-lined power canal; (4) a 130.25-foot-wide concrete forebay that includes trashracks with 4-inch clear bar spacing; (5) a 186-foot-long, 106-foot-wide, 52-foot-high steel frame, brick powerhouse containing three 13.6-MW vertical Francis turbine-generator units for a total project capacity of 40.8 MW; (6) three approximately 20-foot-high, 31-foot-wide concrete draft tubes; (7) a 900-foot-long tailrace; (8) a 12-foot-wide, 10-foot-high ice sluice; (9) three 80-foot-long, 6.6-kV generator leads that connect the turbine-generator units to two step-up transformers; (10) a 920-foot-long, 8-foot-wide fishway; (11) a concrete fish barrier dam in the bypassed reach; and (12) appurtenant facilities.

Vernon Project

The existing Vernon Project consists of: (1) a 956-foot-long, 58-foot-high concrete dam that includes: (a) 356-foot-long section integral to the powerhouse; and (b) a 600-foot-long overflow spillway section that includes: (i) a 9-foot-high, 6-foot-wide fishway sluice; (ii) a 13-foot-high, 13-foot-wide trash/ice sluice; (iii) two 20-foot-high, 50-foot-wide tainter gates; (iv) four 10-foot-high, 50-foot-wide tainter gates; (v) two 10-foot-high, 50-foot-wide hydraulic panel bays; (vi) two 10-foot-high, 50-foot-wide stanchion bays; (vii) a 10-foot-high, 42.5-foot-wide stanchion bay; and (viii) eight 7-foot-high, 9-foot-wide hydraulic flood gates; (2) a 26-mile-long, 2,550-acre impoundment with a useable storage volume of 18,300 acre-feet between elevations 212.13 and 220.13 feet NGVD 29; (3) eight approximately 30-foot-high trashracks with 1.75-inch clear bar spacing and two approximately 30-foot-high trashracks with 3.625-inch clear bar spacing; (4) a 356-foot-long, 55-foot-wide, 45-foot-high reinforced concrete, steel, and brick powerhouse containing four 2-MW vertical Francis turbine-generator units, four 4-MW vertical Kaplan turbine-generator units, and two 4.2-MW vertical Francis turbine-generator units for a total project capacity of 32.4 MW; (5) ten concrete draft tubes ranging from 16 to 27 feet in diameter; (6) a 500-foot-long, 13.8-kV underground generator lead that connects the turbine-generator units to two step-up transformers; (7) a 984-foot-long, 15-foot-wide fishway; (8) downstream fish passage facilities; and (9) appurtenant facilities.

Great River Hydro operates all three projects in coordination and in a peaking mode. Average annual generation is approximately 161,739; 247,373; and 162,557 MW-hours at the Wilder, Bellows Falls, and Vernon Projects, respectively. Great River Hydro is not proposing any new project facilities or changes to operation of these projects at this time.

l. Locations of the Applications: Copies of the applications are available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). Copies are also available for inspection and reproduction at the address in item (h) above.

m. You may also register online at http://www.ferc.gov/docs-filing/esubscription.asp to be notified via email of new filings and issuances related to these or other pending projects. For assistance, contact FERC Online Support.

n. Procedural Schedule: In the final license applications, Great River Hydro states that it will file amended final license applications after it completes additional field work for two studies, conducts additional consultation with stakeholders on the study results, and models operational alternatives. After Great River Hydro completes and files the revised study reports and amended final license applications, Commission staff will issue a revised procedural schedule with target dates for the post-filing milestones listed below.

Milestone | Target date
Amended Final License Applications | TBD.
Notice of Acceptance/Notice of Ready for Environmental Analysis | TBD.
Filing of recommendations, preliminary terms and conditions, and fishway prescriptions | TBD.
Commission issues Draft Environmental Impact Statement (EIS) | TBD.
Comments on Draft EIS | TBD.
Modified terms and conditions | TBD.
Commission issues Final EIS | TBD.

o. Final amendments to the applications must be filed with the Commission no later than 30 days from the issuance date of the notice of ready for environmental analysis.

Dated: May 15, 2017.
Kimberly D. Bose,
Secretary.

[FR Doc. 2017-10385 Filed 5-19-17; 8:45 am]

BILLING CODE 6717-01-P